DEPARTMENT OF TRANSPORTATION

Federal Highway Administration

23 CFR Part 650

[FHWA Docket No. FHWA-2008-0038]

RIN 2125-AF24

National Tunnel Inspection Standards

AGENCY: Federal Highway Administration (FHWA), DOT.

ACTION: Advance Notice of Proposed Rulemaking (ANPRM); request for comments.

SUMMARY: The FHWA is soliciting comments concerning the creation of a regulation establishing National Tunnel Inspection Standards (NTIS). The FHWA is considering the establishment of NTIS by adding Subpart E to 23 CFR Part 650. The NTIS would set minimum tunnel inspection standards that apply to all Federal-aid highway tunnels on public roads. The FHWA anticipates that NTIS could be modeled after the existing National Bridge Inspection Standards (NBIS) regulation, found at 23 CFR Part 650, Subpart C, as applicable. The NTIS likely would include requirements for inspection procedures for structural, mechanical, electrical, hydraulic and ventilation systems, and other major elements specific to tunnels such as tunnel finishes; the qualification and training of inspectors; and a National Tunnel Inventory.

DATES: Comments must be received on or before February 17, 2009. Late-filed comments will be considered to the extent practicable.

ADDRESSES: Mail or hand deliver comments to: Docket Management Facility, U.S. Department of Transportation, 1200 New Jersey Avenue, SE., Washington, DC 20590-0001, or submit electronically at http://www.regulations.gov, or fax comments to (202) 493-2251.

All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments in any one of our dockets by the name of the individual submitting the comment (or signing the comment, if submitted on behalf of an association, business, or labor union). You may review the U.S. Department of Transportation's (DOT) complete Privacy Act Statement in the Federal Register published on April 11, 2000 (Volume 65, Number 70, Pages 19477-78), or you may visit http://DocketsInfo.dot.gov.

FOR FURTHER INFORMATION CONTACT: Mr. Jesus M. Rohena, P.E., Office of Bridge Technology, HIBT-10, (202) 366-4593, or Mr. Robert Black, Office of the Chief Counsel, HCC-30, (202) 366-1359, Federal Highway Administration, 1200 New Jersey Ave., SE., Washington, DC 20590-0001. Office hours are from 7:45 a.m. to 4:15 p.m., e.t., Monday through Friday, except Federal holidays.

SUPPLEMENTARY INFORMATION:

Electronic Access and Filing

You may submit or retrieve comments online through the Federal Docket Management System at http://www.regulations.gov. It is available 24 hours each day, 365 days each year. Electronic submission and retrieval help and guidelines are available under the help section of the Web site. An electronic copy of this document may also be downloaded by accessing the Office of the Federal Register's home page at: http://www.archives.gov or the Government Printing Office's Web page at http://www.gpoaccess.gov/nara.

Background

The safety and security of our Nation's tunnels are of paramount importance to the FHWA. Recognizing that tunnel owners are not mandated to routinely inspect tunnels and that inspection methods vary among entities that inspect tunnels, the FHWA and the Federal Transit Administration developed guidelines for the inspection of tunnels in 2003. The guidelines, known as the “Highway and Rail Transit Tunnel Inspection Manual,” ¹ were updated in 2005. In addition, the FHWA developed Tunnel Management Software to help tunnel owners manage their tunnel inventory, but tunnel owners have not adopted the software uniformly.

¹ Federal Highway Administration and Federal Transit Administration, United States Department of Transportation, Highway and Rail Transit Tunnel Inspection Manual (2005) available at www.fhwa.dot.gov/bridge/tunnel/inspectman00.cfm.

After investigating the fatal July 2006 suspended ceiling collapse in the Central Artery Tunnel in Boston, Massachusetts, the National Transportation Safety Board (NTSB) stated in its report that, “had the Massachusetts Turnpike Authority, at regular intervals between November 2003 and July 2006, inspected the area above the suspended ceilings in the D Street portal tunnels, the anchor creep that led to this accident would likely have been detected, and action could have been taken that would have prevented this accident.” Among its recommendations, the NTSB suggested that the FHWA seek legislative authority to establish a mandatory tunnel inspection program similar to the NBIS that would identify critical inspection elements and specify an appropriate inspection frequency. Additionally, the DOT Inspector General (IG), in testimony before Congress in October 2007, highlighted the need for a tunnel inspection and reporting system to ensure the safety of the Nation's tunnels, stating that the FHWA “should develop and implement a system to ensure that States inspect and report on tunnel conditions.” Additionally, the IG stated that “FHWA should move aggressively on this rulemaking and establish rigorous inspection standards as soon as possible.”

The NTIS would implement these NTSB and IG recommendations. The FHWA anticipates that NTIS could be modeled after the existing NBIS, contained at 23 CFR 650, Subpart C. The FHWA likely would revise 23 CFR Part 650—Bridges, Structures, and Hydraulics, by adding the NTIS under Subpart E.

The NTIS would require the proper safety inspection and evaluation of all Federal-aid highway tunnels on public roads. National Tunnel Inspection Standards are needed to ensure that all structural, mechanical, electrical, hydraulic and ventilation systems, and other major elements of our Nation's tunnels are inspected and tested on a regular basis. The NTIS would also ensure safety for the surface transportation users of our Nation's highway tunnels, and would make tunnel inspection standards consistent across the Nation. Additionally, tunnel inspections would help protect Federal investment in such key infrastructure.

Timely tunnel inspection is vital to uncovering safety problems and preventing failures. When corrosion or leakage occur, electrical or mechanical systems malfunction, or concrete cracking and spalling signs appear, they may be symptomatic of dire problems. The importance of tunnel inspection was demonstrated in the summer of 2007 in the I-70 Hanging Lake tunnel in Colorado. After the Central Artery ceiling collapse in Boston, the Colorado Department of Transportation moved promptly to inspect the ceiling and roof of the I-70 Hanging Lake tunnel and uncovered a crack in the roof that was compromising the structural integrity of the tunnel. This discovery prompted the closure of the tunnel for several months for needed repairs. The repairs included removal of more than 30 feet of soil fill material from the top of the tunnel roof, temporary support of the roof from the inside of the tunnel, removal of the suspended ceiling, and the design and construction of a new slab cast on top of the existing roof to reinforce and add extra structural capacity. To accomplish the repair, the eastbound tube under the cracked roof was closed to traffic, and the adjacent westbound tube was converted to a tube with bi-directional traffic. The eastbound tunnel was closed for 7 months, and the repair cost approximately $6 million, but the repairs helped prevent a potential safety incident.

The FHWA estimates that there are more than 300 highway tunnels in the Nation, although no national inventory for tunnels currently exists. The FHWA additionally estimates that tunnels represent more than 100 linear miles of Interstates, State routes and local routes. The majority of these tunnels range in age from 51 to 100 years. Some tunnels, like the Caldecott Tunnel in California, were constructed in the 1930's and 1940's. The FHWA anticipates that the NTIS could help create a national inventory of tunnels that would lead to a more accurate assessment of the number and condition of tunnels in the Nation.

Because tunnels are vital to the local, regional, and national economies, and to our national defense, it is imperative these facilities are properly maintained and inspected to ensure the safe passage of the traveling public and goods. Tunnels like the Central Artery tunnel in Massachusetts, the Lincoln Tunnel in New York, the Fort McHenry and the Baltimore Harbor tunnels in Maryland, just to mention a few, are a vital part of the national transportation infrastructure. These tunnels handle a huge volume of daily traffic. For example, according to the Port Authority, the Lincoln Tunnel carries approximately 120,000 vehicles per day, making it the busiest vehicular tunnel in the world. The Fort McHenry Tunnel handles a daily traffic volume of more than 115,000 vehicles. Any disruption of traffic in these or other highly traveled tunnels would result in lost productivity and adversely impact the environment.

Currently, there is no uniformity with respect to how frequently tunnels are inspected. The frequency of tunnel inspections varies from daily to every 10 years. Some inspectors in colder climates walk through air ducts on a daily basis to identify potential icing problems due to water leakage. Some inspectors examine mechanical and electrical equipment on a daily basis, while others perform such inspections on a monthly basis. Under the proposed NTIS, State departments of transportation would be responsible for ensuring compliance with tunnel standards. The NTIS could ensure that tunnels are inspected routinely, that the findings of such inspections are reported to the FHWA, and that deficiencies are corrected in a timely manner.

Purpose

The FHWA is acting proactively in developing NTIS. The NTIS are important to assure safety and security of the Nation's Federal-aid highway tunnels. The purpose of this ANPRM is to seek feedback from the public to help the FHWA develop NTIS.

Applicability

The NTIS would apply to all Federal-aid funded highway tunnels in the 50 States, District of Columbia, and Puerto Rico.

Categories of Information

The FHWA has identified 14 categories of information regarding the NTIS. The FHWA seeks comments from our partners and interested parties on the following questions.

1. Definition of “Tunnel”

The NTIS would apply to structures receiving Federal-aid highway funds that meet the NTIS definition of a “tunnel.” What requirements should the FHWA incorporate into the definition of a “tunnel”?

A. Should the definition of a “tunnel” contain a minimum length requirement?

B. Should the definition of a “tunnel” contain requirements other than tunnel length?

C. The National Fire Protection Association defines a tunnel as an “enclosed roadway for motor vehicle traffic with vehicle access that is limited to portals.” ² The American Association of State Highway and Transportation Officials (AASHTO) Technical Committee for Tunnels (T-20) defines tunnels as “enclosed roadways with vehicle access that is restricted to portals regardless of type of structure or method of construction. Tunnels do not include highway bridges, railroad bridges or other bridges over a roadway. Tunnels are structures that require special design considerations that may include lighting, ventilation, fire protection systems, and emergency egress capacity based on the owner's determination.” Should the FHWA adopt one of these definitions or another definition of tunnel?

² NFPA 502: Standard for Road Tunnels, Bridges, and Other Limited Access Highways § 3.3.38 (National Fire Protection Association 2007).

2. Inspection Procedures

Inspections should assess the condition of all structural elements of a tunnel and assess the condition and performance of a tunnel's structural, mechanical, electrical, hydraulic and ventilation systems, including operational procedures.

A. Should the NTIS adopt the inspection techniques and standards in the Highway and Rail Transit Tunnel Inspection Manual?

B. What additional sources of inspection standards should the FHWA consider?

C. Should inspections include evaluation of emergency response and non-emergency operational procedures?

D. Are there any special inspection procedures for new tunnels that should be included in inspection manuals for all new tunnels?

3. Frequency and Types of Inspections

The inspection of highway tunnels likely would include collecting information on the condition of all structural elements and systems.

A. What tunnel elements and systems should be inspected routinely?

B. What inspection frequency should be established for these elements and systems?

C. Should a minimum frequency for tunnel inspection be established?

D. Is there a need to identify various types of inspections? If so, what types of inspections should be defined?

E. Should the frequency of each type of inspection vary according to the type of inspection?

F. Should we establish a risk-based frequency to account for the complexity of each tunnel?

G. What factors (e.g., age, traffic, length, ventilation, urban or rural location) should be included in a risk-based frequency inspection system?

4. Equipment and System Inspection

The NTIS likely would include requirements for inspection procedures for structural, mechanical, electrical, hydraulic and ventilation systems, and other major tunnel elements. For several of these elements and systems, the inspections could include the following provisions:

A. The mechanical inspection could consist of verifying the condition and operation of tunnel mechanical equipment and systems. Examples of mechanical equipment and systems include, but are not limited to, ventilation fans, control room air conditioning and heating, plumbing systems and tunnel drainage and waterproofing systems.

B. The structural inspection could include suspended ceilings, structural attachments, lining, exposed rock, roadway slabs, and tunnel finishes.

C. The safety inspection could consist of verifying the condition and operation of various safety equipment and systems, such as variable message signs, overhead warning systems, carbon monoxide detection systems, fire protection systems, signage, geometry, traffic signals, and normal operations and emergency response procedures.

D. The security inspection could consist of verifying the condition and operation of security equipment and systems that are used to detect and coordinate responses to natural or man-made emergencies. These systems include video cameras, monitors, alarms, telephones, security gates, and portal flood gates.

E. The electrical inspection could consist of verifying the condition and operation of electrical equipment and systems used for power distribution, emergency power, and lighting.

5. Qualifications and Required Training of Inspectors

A. Should the qualification requirements for transit tunnel inspectors contained in the Highway and Rail Transit Tunnel Inspection Manual be adopted as the qualifications required for Federal-aid highway tunnel inspectors? Are the qualifications in the Highway and Rail Transit Tunnel Inspection Manual sufficiently specific for all tunnel elements and systems?

B. What education and training should be required for tunnel inspectors? Should the NTIS incorporate a requirement for periodic training for tunnel inspectors?

C. What experience should be required for tunnel inspectors? Should there be multiple levels of qualifications depending upon the role of the team member (i.e., leader, inspector) and the type of inspection?

6. Recordkeeping

A. Should States be required to keep records of all highway tunnel inspections performed within the State? If not, where and with whom should the inspection records reside?

B. Are inspection record requirements such as those contained in the Highway and Rail Transit Tunnel Inspection Manual sufficient for the NTIS?

C. For how long should tunnel inspection records be maintained?

7. Rating

A. Should the NTIS incorporate a condition-based rating system for Federal-aid highway tunnels, under which the tunnels in the best condition receive a high rating and the tunnels in the poorest condition receive a low rating?

B. Should a tunnel rating system be the basis for possible funding decisions?

8. National Tunnel Inventory Database

A. What tunnel data elements should be collected for all Federal-aid highway tunnels (e.g., tunnel name, age, length, finishes, width, height, number of lanes, ventilation, truck traffic, automobile traffic)?

B. How often should data be collected and reported?

C. Should this data be reported to the FHWA?

D. Should a tunnel be identified using a tunnel inventory number (TIN) in a manner similar to how bridges are identified under the NBIS?

E. What criteria should be used to assign a TIN?

9. Organization of Inspection Teams

A. How should the inspection teams be organized?

B. Should inspection teams be established with differing levels of responsibility?

C. Should one person on the team have overall responsibility for the program?

10. Technical References

What technical publications, if any, should be incorporated by reference?

11. Quality Control/Quality Assurance (QC/QA)

Should QC/QA procedures similar to the procedures required under the NBIS be implemented for the NTIS?

12. Cost of Inspections

The FHWA requests information regarding the costs associated with tunnel inspections, particularly the typical inspection costs per linear foot of tunnel.

13. Tunnel Repairs

The FHWA requests information associated with tunnel rehabilitation projects (e.g., costs of repairs, dates of work, scope of work).

14. Research

The FHWA and others have conducted extensive research related to tunnel design, construction, rehabilitation, and inspection. The following is a list of research projects related to tunnel safety that either have been conducted or are ongoing.

A. The Memorial Tunnel Fire Ventilation Test Program

The FHWA and the Massachusetts Highway Department sponsored the Memorial Tunnel Fire Ventilation Test Program (MTFVTP) in 1993. This research project consisted of a series of full-scale fire tests conducted in an abandoned road tunnel. As part of this project, a total of 98 tests were conducted considering various smoke management strategies. Various tunnel ventilation systems and configurations of such systems were operated to evaluate their respective smoke and temperature management capabilities. These tests generated a significant database relevant to the design and operation of road tunnel ventilation systems under fire emergency conditions.

Proper ventilation of highway tunnels is necessary to provide a safe and secure environment for the traveling public during normal and emergency situations in tunnels. The NTIS would set standards for the inspection of tunnels, including ventilation systems, to assure safe, reliable and efficient operation.

B. Prevention and Control of Highway Tunnel Fires

The FHWA sponsored a study related to tunnel fires in 1984. This study investigated: (1) Steps that can be taken to reduce the risk, damage, and number of fatalities from fires in existing and future highway tunnels; and (2) effects of unrestricted transport of hazardous materials through tunnels. This study examined the history of highway tunnel fires to determine the design and operating features that influenced ignition and spread of fire; detection, alarm transmission, and notification of appropriate authorities; response; control, extinguishment, and suppression; and resultant fatalities and damage. Operators in major domestic highway tunnels were interviewed about tunnel fires, and their responses were tabulated and compared. The study examined the procedures used in, and results of, several tunnel fire tests and evaluated their recommendations in light of historical evidence and operating experience concerning tunnel fires. This study led to the development of comprehensive design and operating recommendations for prevention, detection, alarm, notification, control, extinguishment, suppression, and survival. The report is available at http://ntl.bts.gov/lib/2000/2400/2416/708.pdf.

Tunnel components that relate to the prevention, detection, alarm, notification, control, extinguishment, suppression, and survival systems need to be maintained and inspected to ensure these critical systems are working properly at all times. The NTIS could set the standards for inspection of these key components.

C. Underground Transportation Systems in Europe: Safety, Operations, and Emergency Response

In 2005, the FHWA, AASHTO, and the National Cooperative Highway Research Program (NCHRP) sponsored a scanning study of equipment, systems, and procedures used in tunnels in several countries (Austria, Denmark, France, Germany, Italy, Norway, the Netherlands, Sweden, and Switzerland).

The scan team learned that Europeans are conducting research to develop innovative design and emergency management plans that consider how people react in tunnel emergencies. Because motorist behavior is unpredictable in tunnel incidents, Europeans make instructions for drivers, passengers, and tunnel operators as straightforward as possible.

The team's recommendations for U.S. implementation include conducting research on tunnel emergency management that includes human factors; developing tunnel design criteria that promote optimal driver performance during incidents; developing more effective visual, audible, and tactile signs for escape routes; and using a risk-management approach to tunnel safety inspection and maintenance.

The report states that “only limited national guidelines, standards, or specifications are available for tunnel design, construction, safety inspection, traffic and incident management, maintenance, security, and protection against natural or manmade disasters.” The report also notes that, “[t]hrough knowledge of the systems and the structure gained from intelligent monitoring and analysis of the collected data, the owner can use a risk-based approach to schedule the time and frequency of inspections and establish priorities.” The final scan report is available on at http://international.fhwa.dot.gov/uts/uts.pdf.

The NTIS could assist owners in establishing priorities for the management of their tunnel inventories.

D. NCHRP Project 04-37, Long-Term Performance of Epoxy Adhesive Anchors

The FHWA and AASHTO have initiated a NCHRP project to investigate the long-term behavior of epoxy adhesive anchors. Common transportation applications for epoxy bonded anchors include bridge widening, concrete repair and rehabilitation, barrier retrofitting, utility installation on existing structures, and tunneling. Despite widespread use, the suppliers of these systems provide little guidance on how the adhesives perform under sustained, long-term loading.

The NTIS could set standards for inspection of adhesive anchors, as well as all other structural components in tunnels.

E. NCHRP Project 20-07/Task 261, Best Practices for Implementing Quality Control and Quality Assurance for Tunnel Inspection

In response to the NTSB's preliminary safety recommendations resulting from the Central Artery tunnel ceiling collapse in Boston, the FHWA and AASHTO initiated this NCHRP project. The objective of this project is to develop guidelines for owners to use in selecting quality control and quality assurance practices for tunnel inspection, operational safety and emergency response systems testing, and inventory procedures to improve the safety of highway tunnels.

F. FHWA Control of Highway Tunnel Fire Workshop

In response to OIG's August 2007 report on the CAT Project's Stem to Stern Safety Review, FHWA conducted a workshop on “Control and Modeling of Fires in Highway Tunnels.” The workshop was held on July 22-23, 2008, and was attended by national and international experts in tunnel design, tunnel operation, emergency response, and fire modeling. The objectives of the workshop were to: Share information about gaps in the current standards for design of tunnels; share best practices for response to incidents; identify the parameters needed to start a pilot program to model fires of 60 Megawatts and higher in highway tunnels; and identify other research needs. The results of the pilot program could be used to update the current national tunnel standards. The proposed NTIS could ensure that all systems needed for highway tunnel fire protection are maintained, inspected and repaired on a timely basis.

We welcome information regarding other existing or ongoing research related to tunnel inspections. What additional research should be undertaken?

Rulemaking Analyses and Notices

All comments received before the close of business on the comment closing date indicated above will be considered and will be available for examination in the docket at the above address. Comments received after the comment closing date will be filed in the docket and will be considered to the extent practicable. In addition to late comments, the FHWA also will continue to file relevant information in the docket as it becomes available after the comment period closing date, and interested persons should continue to examine the docket for new material. A Notice of Proposed Rulemaking (NPRM) may be published at any time after close of the comment period.

Executive Order 12866 (Regulatory Planning and Review) and DOT Regulatory Policies and Procedures

The FHWA has preliminarily determined that this action would be a significant regulatory action within the meaning of Executive Order 12866 and within the meaning of the DOT regulatory policies and procedures because the proposed action concerns a matter about which there is substantial public interest. Because of the preliminary nature of this document and lack of necessary information regarding costs as well as benefits, FHWA is unable to evaluate the impact of potential changes.

Based upon the information received in response to this notice, FHWA intends to carefully consider the costs and benefits associated with this rulemaking. Accordingly, comments, information, and data are solicited on the economic impact of any proposed recommendation for establishment of NTIS.

Regulatory Flexibility Act

In compliance with the Regulatory Flexibility Act (Pub. L. 96-354, 5 U.S.C. 601-612), and based upon the information received in response to this ANPRM, FHWA will evaluate the effects of any action proposed on small entities. This action merely seeks information regarding the establishment of NTIS. Therefore, FHWA is unable to certify at this time whether or not NTIS will have a significant impact on a substantial number of small entities.

Unfunded Mandates Reform Act of 1995

Because of the preliminary nature of this document and lack of necessary information on costs, FHWA is unable to evaluate the effects of the potential regulatory changes in regard to imposing a Federal mandate involving expenditure by State, local, and Indian tribal governments, in the aggregate, or by the private sector, of $136.1 million or more in any one year (2 U.S.C. 1532). Nevertheless, FHWA will evaluate any regulatory action that might be proposed in subsequent stages of this rulemaking to assess the effects on State, local, and Indian tribal governments and the private sector.

Executive Order 12988 (Civil Justice Reform)

The FHWA will evaluate any rule that may be proposed in response to comments received to ensure that such action meets applicable standards in section 3(a) and 3(b)(2) of Executive Order 12988, Civil Justice Reform, to minimize litigation, eliminate ambiguity, and reduce burden.

Executive Order 13045 (Protection of Children)

The FHWA will evaluate any rule that may be proposed in response to comments received to ensure that such action meets the requirements of Executive Order 13045, Protection of Children from Environmental Health Risks and Safety Risks. The Agency does not, however, anticipate that any such rule would be economically significant or would present an environmental risk to health or safety that may disproportionately affect children.

Executive Order 12630 (Taking of Private Property)

The FHWA will evaluate any rule that may be proposed in response to comments received to ensure that any such rule will not effect a taking of private property or otherwise have taking implications under Executive Order 12630, Governmental Actions and Interference with Constitutionally Protected Property Rights.

Executive Order 13132 (Federalism)

The FHWA will analyze any action that might be proposed in accordance with the principles and criteria contained in Executive Order 13132, and FHWA anticipates that any action contemplated will not have sufficient federalism implications to warrant the preparation of a federalism assessment. The FHWA will consult with public authorities regarding any proposed NTIS regulations. The FHWA also anticipates that any action taken will not preempt any State law or State regulation or affect the States' ability to discharge traditional State governmental functions. We encourage commenters to consider these issues.

Executive Order 13175 (Tribal Consultation)

The FHWA will analyze any proposal under Executive Order 13175, dated November 6, 2000. The FHWA preliminarily believes that any proposal will not have substantial direct effects on one or more Indian tribes, will not impose substantial direct compliance costs on Indian tribal governments, and will not preempt tribal law. Therefore, a tribal summary impact statement may not be required.

Executive Order 12372 (Intergovernmental Review)

Catalog of Federal Domestic Assistance Program Number 20.205, Highway Planning and Construction. The regulations implementing Executive Order 12372 regarding intergovernmental consultation on Federal programs and activities apply to this program.

Paperwork Reduction Act of 1995

Under the Paperwork Reduction Act of 1995 (PRA) (44 U.S.C. 3501), Federal agencies must obtain approval from the Office of Management and Budget (OMB) for each collection of information they conduct, sponsor, or require through regulations. Any action that might be contemplated in subsequent phases of this proceeding will be analyzed for the purpose of the PRA for its impact upon information collection. The FHWA would be required to submit any proposed collections of information to OMB for review and approval at the time the NPRM is issued, and, accordingly, seeks public comments. Interested parties are invited to send comments regarding any aspect of any proposed information collection requirements, including, but not limited to: (1) Whether the collection of information would be necessary for the performance of the functions of FHWA, including whether the information would have practical utility; (2) the accuracy of the estimated burden; (3) ways to enhance the quality, utility, and clarity of the collection of information; and (4) ways to minimize the collection burden without reducing the quality of the information collected.

National Environmental Policy Act

The FHWA will analyze any action that might be proposed for the purposes of the National Environmental Policy Act of 1969, as amended (42 U.S.C. 4321-4347) to assess whether there would be any effect on the quality of the environment.

Executive Order 13211 (Energy Effects)

The FHWA will analyze any proposed action under Executive Order 13211, Actions Concerning Regulations that Significantly Affect Energy Supply, Distribution, or Use, to assess whether there would be any adverse effect on the supply, distribution, or use of energy.

Regulation Identification Number

A regulation identification number (RIN) is assigned to each regulatory action listed in the Unified Agenda of Federal Regulations. The Regulatory Information Service Center publishes the Unified Agenda in April and October of each year. The RIN contained in the heading of this document can be used to cross-reference this section with the Unified Agenda.

List of Subjects in 23 CFR Part 650

Bridges, Grant programs—transportation, Highways and roads, Incorporation by reference, Reporting and recordkeeping requirements.

Authority: Title 23, United States Code, Sections 116 and 315; 23 CFR 1.27; 49 CFR 1.48(b).

Issued on: November 7, 2008.
Thomas J. Madison, Jr.,
Federal Highway Administrator.

[FR Doc. E8-27265 Filed 11-17-08; 8:45 am]

BILLING CODE 4910-22-P